DEPARTMENT OF HEALTH AND HUMAN SERVICES

Health Resources and Services Administration

Maternal and Child Health Services; Universal Newborn Hearing Screening and Intervention Program

AGENCY: Health Resources and Services Administration, HHS.

ACTION: Notice of noncompetitive program expansion supplemental award.

SUMMARY: The National Center for Hearing Assessment and Management (NCHAM) at Utah State University is the national resource center for the Universal Newborn Hearing Screening and Intervention Program. Funds will be used to provide technical assistance and training for physiologic hearing screening services in Early Head Start and Head Start programs in 17 States with plans to expand to 3 additional States.

SUPPLEMENTARY INFORMATION: Intended Recipient of the Award: The National Center for Hearing Assessment and Management (NCHAM) at Utah State University.

Amount of Supplemental Award(s): The amount of the supplemental award is $400,000. Based on satisfactory performance, continued need, and availability of funds, a second and final non-competitive supplemental award for this activity may be awarded for 12 additional months.

Authority: Section 349 of the Public Health Service Act.

CFDA Number: 93.251.

Project Period: The project period for this cooperative agreement is April 1, 2005, through March 31, 2010. The period of supplemental support for this award is from September 1, 2008, through March 31, 2009.

FOR FURTHER INFORMATION CONTACT: Irene Forsman, via e-mail: iforsman@hrsa.gov or via telephone 301-443-2370.

Justification for the Exception to Competition: The National Center for Hearing Assessment and Management (NCHAM) at Utah State University is the national resource center for the Universal Newborn Hearing Screening and Intervention program. They successfully applied for funds to support a program of national technical assistance in 2000 and again in 2004. There were no other applicants for this cooperative agreement in either competition. There is no other organization providing technical assistance to State-based Early Hearing Detection and Intervention (EHDI) programs.

In 2001, the Health Services and Resources Administration's (HRSA) Maternal and Child Health Bureau (MCHB) entered into a 3-year Intra-Agency Agreement with the Administration on Children and Families (ACF) Office of Head Start (OHS) to provide physiologic hearing screening services to Migrant and Native American Early Head Start sites in 3 States. NCHAM was awarded a supplemental grant to develop training materials for the staff and provided technical assistance and support. Since 2005, ACF/OHS has supported NCHAM through a one-time award which cannot be renewed. In that time period, NCHAM successfully expanded the screening program to 17 States. ACF/OHS has submitted an Intra-Agency Agreement to HRSA/MCHB to continue the work in 17 States and to expand to 3 additional States.

NCHAM is unique in its technical assistance capacity to provide the type of services for the training. Since it is the national center that supports the EHDI program, it is well positioned to catalyze significant relationships between community-based Head Start programs and State-wide EHDI programs. The resource center has a regionalized system of audiologists, each of whom has responsibility for several States. NCHAM has developed multiple training mechanisms including manuals, CDs and a Web site (infanthearing.org) rich in resources to assist health providers, educators of the deaf, families, policymakers and others involved in providing timely and appropriate screening, diagnosis and intervention services for infants and children with hearing loss and their families. There is no other entity providing these services, nor has any other entity expressed interest in doing so. For the reasons identified above, the HRSA is awarding the supplemental funds non-competitively.

Dated: September 10, 2008.
Elizabeth M. Duke,
Administrator.

[FR Doc. E8-21753 Filed 9-16-08; 8:45 am]

BILLING CODE 4165-15-P